FEDERAL ELECTION COMMISSION

Sunshine Act Notices

Date And Time: Thursday, September 9, 2004, at 10 a.m.

Place: 999 E Street, NW., Washington, DC (Ninth Floor).

Status: This meeting will be open to the public.

Items to be Discussed: Correction and Approval of Minutes.

Advisory Opinion 2004-27: Quayle 2000, Inc. by William R. Neale, Treasurer.

Advisory Opinion 2004-28: Iowa Ethics and Campaign Disclosure Board by W. Charles Smithson, Executive Director and Legal Counsel.

Advisory Opinion 2004-30: Citizens United by Michael Boos, Vice President and General Counsel.

Advisory Opinion 2004-31: Russ Darrow Group, Inc. by counsel, Cleta Mitchell.

Advisory Opinion 2004-33: The Ripon Society and U.S. Representative Sue Kelly by counsel, Jan Witold Baran and Lee E. Goodman.

Candidate Debates—Notice of Disposition of Petition for Rulemaking.

Routine Administrative Matters.

Date And Time: Tuesday, September 14, 2004, at 10 a.m.

Place: 999 E Street, NW., Washington, DC (Ninth Floor).

Status: This meeting will be open to the public.

Items to be Discussed: Compliance matters pursuant to 2 U.S.C. 437g.

Audits conducted pursuant to 2 U.S.C. 437g, 438(b), and title 26, U.S.C.

Matters concerning participation in civil actions or proceedings or arbitration.

Internal personnel rules and procedures or matters affecting a particular employee.

FOR FURTHER INFORMATION CONTACT: Mr. Robert Biersack, Acting Press Officer, telephone: (202) 694-1220.

Mary W. Dove,
Secretary of the Commission.

[FR Doc. 04-20174 Filed 8-31-04; 3:34 pm]

BILLING CODE 6715-01-M